UNIFIED CARRIER REGISTRATION PLAN

Sunshine Act Meetings

TIME AND DATE: June 27, 2023, 1:30 p.m. to 4:30 p.m., Eastern time.

PLACE: This meeting shall take place at the Providence Marriott Downtown, The Angel Room, 1 Orms Street, Providence, RI 02904. This meeting will also be accessible via conference call and via Zoom Meeting and Screenshare. Any interested person may call (i) 1-929-205-6099 (US Toll) or 1-669-900-6833 (US Toll), Meeting ID: 970 3011 5256, to listen and participate in this meeting. The website to participate via Zoom Meeting and Screenshare is https://kellen.zoom.us/meeting/register/tJMtdOmprz4oH9J9qespeV7yoqsG-7ZFYkXL.

STATUS: This meeting will be open to the public.

MATTERS TO BE CONSIDERED: The Unified Carrier Registration Plan Finance Subcommittee (the “Subcommittee”) will continue its work in developing and implementing the Unified Carrier Registration Plan and Agreement. The subject matter of this meeting will include:

Proposed Agenda

I. Call to Order—UCR Finance Subcommittee Chair

The UCR Finance Subcommittee Chair will welcome attendees, call the meeting to order, call roll for the Subcommittee, confirm whether a quorum is present, and facilitate self-introductions.

II. Verification of Publication of Meeting Notice—UCR Executive Director

The UCR Executive Director will verify the publication of the meeting notice on the UCR website and distribution to the UCR contact list via email followed by the subsequent publication of the notice in the Federal Register.

III. Review and Approval of Subcommittee Agenda and Setting of Ground Rules—UCR Finance Subcommittee Chair

For Discussion and Possible Subcommittee Action

The agenda will be reviewed, and the Subcommittee will consider adoption of the agenda.

Ground Rules

➢ Subcommittee action only to be taken in designated areas on agenda.

IV. Review and Approval of Subcommittee Minutes From the March 23, 2023, Meeting—UCR Finance Subcommittee Chair

For Discussion and Possible Subcommittee Action

Draft minutes from the March 23, 2023, Subcommittee meeting via teleconference will be reviewed. The Subcommittee will consider action to approve.

V. Implementation of the UCR Investment Policy—UCR Finance Subcommittee Chair

For Discussion and Possible Subcommittee Action

The UCR Finance Subcommittee Chair will lead a discussion on the investment of funds currently available for investment consistent with the UCR Investment Policy. The Subcommittee may take action to invest funds currently available for investment consistent with the Investment Policy.

VI. Amendments to the Unbudgeted Expense Reserve Policy—UCR Finance Subcommittee Chair

For Discussion and Possible Subcommittee Action

The UCR Finance Subcommittee Chair will lead a discussion regarding possible amendments to the Unbudgeted Expense Reserve Policy. The Subcommittee may take action to recommend to the Board possible amendments to the Unbudgeted Expense Reserve Policy.

VII. Amendments To Change the Method of Estimating Collections for the Future Months Remaining in a Registration Year—UCR Finance Subcommittee Chair

For Discussion and Possible Subcommittee Action

The UCR Finance Subcommittee Chair will lead a discussion regarding possible amendments to Section 6.c.ii of the Fee Change Recommendation Policy to change the method of estimating collections for the future months remaining in a registration year. The Subcommittee may take action to recommend to the Board possible amendments to Section 6.c.ii of the Fee Change Recommendation Policy.

VIII. 2025 Registration Fee Analysis and Recommendation—UCR Finance Subcommittee Chair

For Discussion and Possible Subcommittee Action

The UCR Finance Subcommittee Chair will provide an analysis pertaining to the setting of 2025 registration fees and a 2025 registration fee recommendation. The Subcommittee may take action to recommend to the Board a 2025 registration fee recommendation.

IX. Discussion Concerning the Statement of FMCSA in the 2010 UCR Fee Rulemaking on a UCR Fee Structure Based on Certain Registration Percentages—UCR Finance Subcommittee Chair

The UCR Finance Subcommittee Chair will lead a discussion concerning the statement of FMCSA in the 2010 UCR Fee Rulemaking, Federal Register, Vol. 75, No. 80, at 21997 (April 27, 2010), on the setting of fees based on certain compliance rates in participating and non-participating states.

X. Revenues From 2022 and 2023 Fees—UCR Depository Manager

The UCR Depository Manager will review the revenues received from the 2022 and 2023 plan year fees.

XI. Management Report—UCR Finance Subcommittee Chair and UCR Depository Manager

The UCR Finance Subcommittee Chair and UCR Depository Manager will provide an update on UCR finances and related topics, to include current market rates on deposits, CDs, and Treasuries.

XII. Other Business—UCR Finance Subcommittee Chair

The UCR Finance Subcommittee Chair will call for any other items Subcommittee members would like to discuss.

XIII. Adjourn—UCR Finance Subcommittee Chair

The UCR Finance Subcommittee Chair will adjourn the meeting.

The agenda will be available no later than 5:00 p.m. Eastern time, June 19, 2023 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2023-13616 Filed 6-22-23; 4:15 pm]

BILLING CODE 4910-YL-P